DEPARTMENT OF ENERGY

Agency Information Collection Under Review by the Office of Management and Budget

AGENCY: Department of Energy.

ACTION: Submission for OMB review; comment request.

SUMMARY: The Department of Energy (DOE) has submitted renewals for an additional three years for the information collection(s) listed at the end of this notice to the Office of Management and Budget (OMB) for review under sections 3507(h)(1) of the Paperwork Reduction Act of 1995 (Pub. L. 104-13) (44 U.S.C. 3501 et seq).

Each entry contains the following information: (1) The collection number and title; (2) a summary of the collection of information, type of request (new, revision, extension, or reinstatement), response obligation (mandatory, voluntary, or required to obtain or retain benefits); (3) a description of the need and proposed use of the information; (4) a description of the likely respondents; and (5) an estimate of the total annual reporting burden (i.e., the estimated number of likely respondents times the proposed frequency of response per year times the average hours per response).

DATES: Comments must be filed by January 29, 2001. If you anticipate that you will be submitting comments but find it difficult to do so within the time allowed by this notice, you should advise the OMB DOE Desk Officer listed below of your intention to do so, as soon as possible. The OMB Desk Officer may be telephoned at (202) 395-7318. (Also, please notify the DOE contact listed below.)

ADDRESSES: Address comments to the Department of Energy Desk Officer, Office of Information and Regulatory Affairs, Office of Management and Budget, 725 17th Street, NW, Washington, DC 20503. (Comments should also be addressed to the Records Management Division, Office of the Chief Information Officer, at the addressee below.)

FOR FURTHER INFORMATION, CONTACT: Requests for additional information should be directed to Susan L. Frey, Director, Records Management Division, Office of Records and Business Management (SO-312), U.S. Department of Energy, Germantown, MD 20874-1290. Ms. Frey can be contacted by telephone at (301) 903-3666, or e-mail at Susan.Frey@hq.doe.gov

SUPPLEMENTARY INFORMATION: The information collections submitted to OMB for review were: 1. Current OMB No.: 1910-0400. Package Title: Financial Assistance. Summary: A three-year extension is requested, which includes both mandatory and response to obtain or retain benefits. Purpose: This information is required by the Department to manage all phases of the process of awarding, administering, and closing out financial assistance awards. The package contains 58 information and/or recordkeeping requirements. Type of Respondents: DOE management and operating contractors and offsite contractors. Estimated Number of Burden Hours: 664,673.

2. Current OMB No. 1910-1000. Package Title: Personal Property. Summary: A three-year extension is requested for these mandatory response obligations. Purpose: This provides the Department with the information necessary for the management, control, reutilization, and disposal of government personal property. The package contains 29 information and/or recordkeeping requirements. Type of Respondents: DOE management and operating contractors and offsite contractors. Estimated Number of Responses: 3,857. Estimated Total Burden Hours: 247,374.

3. Current OMB No.: 1910-1800. Package Title: Safeguards and Security. Summary: A three-year extension is requested for these mandatory response obligations. Purpose: This information is required by the Department for guard service contracts, security classified records, facility security, nuclear facility safety, and nuclear facility security. The package contains information and/or recordkeeping requirements. Type of Respondents: DOE management and operating contractors and offsite contractors. Estimated Total Burden Hours: 612,985.

Statutory Authority: Sections 3507(h)(1) of the Paperwork Reduction Act of 1995 (Pub. L. No. 104-13) (44 U.S.C. 3501 et seq).

Issued in Washington, DC, December 20, 2000.
Susan L. Frey,
Director, Records Management Division, Office of Records and Business Management, Office of the Chief Information Officer.

[FR Doc. 00-33091 Filed 12-27-00; 8:45 am]

BILLING CODE 6450-01-P